DEPARTMENT OF COMMERCE

National Oceanic and Atmospheric Administration

[RTID 0648-XF130]

New England Fishery Management Council; Public Meeting

AGENCY: National Marine Fisheries Service (NMFS), National Oceanic and Atmospheric Administration (NOAA), Commerce.

ACTION: Notice of public meeting.

SUMMARY: The New England Fishery Management Council (Council) is scheduling a public hybrid meeting of its Joint Skate and Monkfish Committees to consider actions affecting New England fisheries in the exclusive economic zone (EEZ).

Recommendations from this group will be brought to the full Council for formal consideration and action, if appropriate.

DATES: This meeting will be held on Wednesday, September 17, 2025 at 9 a.m. Webinar registration URL information: https://nefmc-org.zoom.us/meeting/register/qyN11DUFRp-IM8T0mmwwtA.

ADDRESSES: This meeting will take place at Hampton Inn, 20 Hotel Drive, South Kingstown, RI 02879, Phone: (401) 788-3500.

Council address: New England Fishery Management Council, 50 Water Street, Mill 2, Newburyport, MA 01950.

FOR FURTHER INFORMATION CONTACT: Cate O'Keefe, Executive Director, New England Fishery Management Council; telephone: (978) 465-0492.

SUPPLEMENTARY INFORMATION:

Agenda

The Joint Skate and Monkfish Committees will meet to discuss Specifications Actions Based on outcomes of the 2025 monkfish and skate data updates and recommendations of the Scientific and Statistical Committee, receive a progress update on developing overfishing limits, acceptable biological catches, and associated specifications. They will review Joint Plan Development Team tasking on monkfish and skate fishery effort and overlaps. The Committees plan to recommend final preferred alternatives to the Councils on: Monkfish Framework 17: Fishing Year (FY) 2026-2028 specifications and defaults for FY 2029 and 2030. Skate Specifications: FY 2026-2027 and defaults for FY 2028-2030. They will receive an overview of the Joint New England and Mid-Atlantic Councils' Alternative Gear-Marking Framework. Discuss Council priorities for monkfish and skate-related work in 2026. They will also review input provided by the Advisory Panels. Other business will be discussed if necessary.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Cate O'Keefe, Executive Director, at (978) 465-0492, at least 5 days prior to the meeting date.

Authority: 16 U.S.C. 1801 et seq.

Dated: August 29, 2025.
Becky J. Curtis,
Acting Deputy Director, Office of Sustainable Fisheries, National Marine Fisheries Service.

[FR Doc. 2025-16872 Filed 9-2-25; 8:45 am]

BILLING CODE 3510-22-P